DEPARTMENT OF AGRICULTURE

Animal and Plant Health Inspection Service

9 CFR Part 97

[Docket No. APHIS-2004-0108]

Commuted Traveltime; Correction

AGENCY: Animal and Plant Health Inspection Service, USDA.

ACTION: Correcting amendment.

SUMMARY: In a final rule published in the Federal Register on April 1, 2005, and effective on April 1, 2005, we amended the regulations concerning overtime services provided by employees of the Agency's Plant Protection and Quarantine and Veterinary Services programs by adding or amending commuted traveltime allowances for travel between certain locations in Texas, New Mexico, and Mexico. In the final rule, two commuted traveltime allowances that should have appeared in the “within the metropolitan area” column were erroneously printed in the “outside the metropolitan area” column. This document corrects those errors.

DATES: Effective February 3, 2015.

FOR FURTHER INFORMATION CONTACT: Dr. Adis Dijab, Air and Sea Port Services Director, National Import Export Services, VS, APHIS, 1445 Federal Drive, Suite 226, Montgomery, AL 36107; (334) 551-2181.

SUPPLEMENTARY INFORMATION: In a final rule that was published in the Federal Register on April 1, 2005 (70 FR 16691-16693, Docket No. 04-108-1), and effective on April 1, 2005, we amended the regulations concerning overtime services provided by employees of the Animal and Plant Health Protection Service's Plant Protection and Quarantine and Veterinary Services programs by adding or amending commuted traveltime allowances for travel between certain locations in Texas, New Mexico, and Mexico. Among other things, we increased the commuted traveltime allowance from 1 to 2 hours for Dallas-Fort Worth International Airport served from Fort Worth or Dallas, TX, within the metropolitan area. The commuted traveltime allowance of 2 hours for Houston (including Houston Intercontinental Airport) served from within the metropolitan area remained the same. However, when the final rule was published, those two commuted travel time allowances appeared in the “outside” rather than “within” columns under metropolitan area in the table. This document corrects those errors.

List of Subjects in 9 CFR Part 97

Exports, Government employees, Imports, Livestock, Poultry and poultry products, Travel and transportation expenses.

Accordingly, 9 CFR part 97 is corrected by making the following correcting amendments:

PART 97—OVERTIME SERVICES RELATING TO IMPORTS AND EXPORTS

1. The authority citation for part 97 continues to read as follows:

Authority: 7 U.S.C. 8301-8317; 49 U.S.C. 80503; 7 CFR 2.22, 2.80, and 371.4.

2. In § 97.2, the table is amended, under Texas, by revising the entries for “Dallas-Fort Worth International Airport” and “Houston (including Houston Intercontinental Airport)” to read as follows:

§ 97.2 Administrative instructions prescribing commuted traveltime.

* * * * *

Commuted Traveltime Allowances
[In hours]
Location covered | Served from | Metropolitan area: Within | Metropolitan area: Outside
* * * * * * *
Texas:
* * * * * * *
Dallas-Fort Worth International Airport | Decatur |  | 2
Do | Ft. Worth or Dallas | 2 |
* * * * * * *
Houston (including Houston Intercontinental Airport) |  | 2 |
Do | Bellville, TX |  | 4
Do | Bryan, TX |  | 4
Do | Georgetown, TX |  | 8
Do | Pleasanton, TX |  | 8
* * * * * * *

Done in Washington, DC, this 28th day of January 2015.
Kevin Shea,
Administrator, Animal and Plant Health Inspection Service.

[FR Doc. 2015-02027 Filed 2-2-15; 8:45 am]

BILLING CODE 3410-34-P